FEDERAL DEPOSIT INSURANCE CORPORATION

Sunshine Act; Notice of Agency Meeting

Pursuant to the provisions of the “Government in the Sunshine Act” (5 U.S.C. 552b), notice is hereby given that the Federal Deposit Insurance Corporation's Board of Directors will meet in open session at 2 p.m. on Monday, November 5, 2007, to consider the following matters:

Summary Agenda: No substantive discussion of the following items is anticipated. These matters will be resolved with a single vote unless a member of the Board of Directors requests that an item be moved to the discussion agenda.

Disposition of minutes of previous Board of Directors' meetings.

Memorandum and resolution re: Amendments to FDIC Rules and Regulations Relating to Suspension, Removal, and Prohibition in the Case of Certain Criminal Offenses and Rules and Regulations Applicable to Proceedings Relating to Cease-and-Desist Orders.

Discussion Agenda

Memorandum and resolution re: Final Rule regarding Risk-Based Capital Standards: Advanced Capital Adequacy Framework.

Memorandum and resolution re: Interagency Notice of Proposed Rulemaking Relating to the Accuracy and Integrity of Information Furnished to Consumer Reporting Agencies and Consumers' Right to Dispute Inaccurate Information Provided to Credit Reporting Agencies.

Memorandum and resolution re: Designated Reserve Ratio for 2008.

Memorandum re: Assessment Rates for 2008.

The meeting will be held in the Board Room on the sixth floor of the FDIC Building located at 550 17th Street, NW., Washington, DC.

The FDIC will provide attendees with auxiliary aids (e.g., sign language interpretation) required for this meeting. Those attendees needing such assistance should call (703) 562-6067 (Voice or TTY), to make necessary arrangements.

Requests for further information concerning the meeting may be directed to Mr. Robert E. Feldman, Executive Secretary of the Corporation, at (202) 898-7122.

Dated: October 29, 2007.
Federal Deposit Insurance Corporation.
Robert E. Feldman,
Executive Secretary.

[FR Doc. E7-21544 Filed 11-1-07; 8:45 am]

BILLING CODE 6714-01-P